DEPARTMENT OF THE INTERIOR

Fish and Wildlife Service

50 CFR Part 17

[Docket No. FWS-R1-ES-2011-0096; 4500030114]

RIN 1018-AX38

Endangered and Threatened Wildlife and Plants; Designation of Critical Habitat for the Southern Selkirk Mountains Population of Woodland Caribou (Rangifer tarandus caribou)

AGENCY: Fish and Wildlife Service, Interior.

ACTION: Proposed rule; reopening of comment period and announcement of public hearing.

SUMMARY: We, the U.S. Fish and Wildlife Service (Service), announce the reopening of the comment period on our November 30, 2011, proposed rule to designate critical habitat for the southern Selkirk Mountains population of woodland caribou (Rangifer tarandus caribou) under the Endangered Species Act of 1973, as amended (Act). We are reopening the public comment period to allow all interested parties another opportunity to comment on the proposed rule. Comments previously submitted need not be resubmitted and will be fully considered in preparation of the final rule. We will also hold a public informational session and hearing (see DATES and ADDRESSES).

DATES: Written Comments: We will consider comments received or postmarked on or before May 21, 2012. Comments must be received by 11:59 p.m. Eastern Standard Time on the closing date.

Public informational session and public hearing: We will hold a public informational session from 9:30 a.m. to 11:30 a.m., followed by a public hearing from 2 p.m. to 5 p.m., on April 28, 2012, in Bonners Ferry, Idaho (see ADDRESSES).

ADDRESSES: Written Comments: You may submit comments by one of the following methods:

(1) Federal eRulemaking Portal: http://www.regulations.gov. In the Search box, enter the Docket number for this proposed rule, which is FWS-R1-ES-2011-0096. Please ensure that you have found the correct rulemaking before submitting your comment.

(2) U.S. mail or hand delivery: Public Comments Processing, Attn: Docket No. FWS-R1-ES-2011-0096; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

Public informational session and public hearing: The public informational session and hearing will be held at the Bonners Ferry High School, 6485 Tamarack Lane, Bonners Ferry, ID 83805. People needing reasonable accommodations in order to attend and participate in the public hearing should contact Brian Kelly, State Supervisor, Idaho Fish and Wildlife Office, at (208) 378-5243, as soon as possible (see FOR FURTHER INFORMATION CONTACT).

FOR FURTHER INFORMATION CONTACT: Brian Kelly, State Supervisor, U.S. Fish and Wildlife Service, Idaho Fish and Wildlife Office, 1387 South Vinnell Way, Room 368, Boise, ID 83709; telephone 208-378-5243; facsimile 208-378-5262. If you use a telecommunications device for the deaf (TDD), call the Federal Information Relay Service (FIRS) at 800-877-8339.

SUPPLEMENTARY INFORMATION:

Background

It is our intent to discuss only those topics directly relevant to the proposed rule to designate critical habitat for the southern Selkirk Mountains population of woodland caribou. On November 30, 2011, we published a proposed rule (76 FR 74018) to designate critical habitat for the southern Selkirk Mountains population of woodland caribou. For a description of the previous Federal actions concerning the southern Selkirk Mountains population of woodland caribou, please refer to the proposed rule. In response to comments we received during the public comment period that opened on November 30, 2011, and closed on January 30, 2012, we have decided to allow the public more time to submit comments, and to hold an informational session and public hearing (as described above). All details of the proposed critical habitat designation are provided in our November 30, 2011, proposed rule, available online at http://www.regulations.gov, or by contacting the Idaho Fish and Wildlife Office (see FOR FURTHER INFORMATION CONTACT section).

We will announce the availability of the draft economic analysis of the proposed designation as soon as it is completed, at which time we will seek additional public review and comment both on the draft economic analysis as well as the proposed designation of critical habitat for the southern Selkirk Mountains population of woodland caribou. Copies of the draft economic analysis will be available for downloading from the Internet at http://www.regulations.gov, or from the Idaho Fish and Wildlife Office (see FOR FURTHER INFORMATION CONTACT).

Public Comments

We will accept written comments and information during this reopened comment period for the proposed rule to designate critical habitat for the southern Selkirk Mountains population of woodland caribou that was published in the Federal Register on November 30, 2011 (76 FR 74018). We intend that any final action resulting from this proposed rule will be based on the best scientific and commercial data available and be as accurate and as effective as possible. Therefore, we request comments or information from the public, other concerned government agencies, the scientific community, industry, or other interested parties concerning this proposed rule. We will consider information and recommendations from all interested parties. We are particularly interested in comments concerning:

(1) The reasons why we should or should not designate habitat as “critical habitat” under section 4 of the Act (16 U.S.C. 1531 et seq.), including whether there are threats to the southern Selkirk Mountains population of woodland caribou from human activity, the degree of which can be expected to increase due to the designation, such that the designation of critical habitat may not be prudent.

(2) Specific information on:

(a) The amount and distribution of habitat for the southern Selkirk Mountains population of woodland caribou in the United States;

(b) What areas occupied at the time of listing that contain the physical and biological features essential to the conservation of the species should be included in the designation and why; and

(c) Special management considerations or protections that may be needed in critical habitat areas we are proposing, including managing for the potential effects of climate change; and

(d) What areas not occupied at the time of listing are essential for the conservation of the species and why.

(3) Land use designations and current or planned activities in the subject areas and their possible impacts on proposed critical habitat.

(4) Any probable economic, national security, or other relevant impacts of designating any area that may be included in the final designation. We are particularly interested in any impacts on small entities or families, and the benefits of including or excluding areas that exhibit these impacts.

(5) Information on the projected and reasonably likely impacts of climate change on the southern Selkirk Mountains population of woodland caribou and the proposed critical habitat.

(6) Whether any specific areas we are proposing for critical habitat designation should be considered for exclusion under section 4(b)(2) of the Act, and whether the benefits of potentially excluding any specific area outweigh the benefits of including that area under section 4(b)(2) of the Act and why.

(7) Whether we could improve or modify our approach to designating critical habitat in any way to provide for greater public participation and understanding, or to better accommodate public concerns and comments.

Public Informational Session and Public Hearing

Section 4(b)(5)(E) of the Act requires that we hold one public hearing on a proposed regulation, if any person files a request for such a hearing within 45 days after the date of publication of a general notice. At the request of the Governor of Idaho and the Commissioners of Boundary County, Idaho, we have scheduled an informational session (a brief presentation about the proposed rule with a question-and-answer period), and a public hearing (see DATES and ADDRESSES). Anyone wishing to make an oral statement at the public hearing for the record is encouraged to provide a written copy of their statement to us at the hearing. In the event there is a large attendance, the time allotted for oral statements may be limited. Speakers can sign up at the informational meeting and hearing if they desire to make an oral statement. Oral and written statements receive equal consideration. There are no limits on the length of written comments submitted to us. If you have any questions concerning the public hearing, please contact Brian Kelly, State Supervisor, Idaho Fish and Wildlife Office (see FOR FURTHER INFORMATION CONTACT).

The Service has conducted several outreach efforts to be responsive to public requests for additional information. On January 9, 2012, we presented information on the proposed critical habitat designation in Bonners Ferry, Boundary County, Idaho, at the request of the Kootenai Valley Resource Initiative (KVRI), and on January 24, 2012, we held an informational meeting in Priest Lake, at the request of the Bonner County, Idaho Commission. On February 13, 2012, we participated in a meeting in Boundary County, Idaho, sponsored by the KVRI, and on February 28, 2012, we participated in another meeting with the Bonner County Commission; both meetings were open to the public.

To ensure the final decision is based on the best available information, an additional informational session and public hearing will be announced concurrent with the forthcoming publication of a notice of availability for the draft economic analysis, which is currently under development. Prior to a final decision on the proposed critical habitat designation, the Service intends to conduct two public hearings, each preceded by an informational session. We will also continue with our ongoing outreach efforts, such as those described above, as needs and opportunities to do so arise.

Our final determination concerning critical habitat for the southern Selkirk Mountains population of woodland caribou will take into consideration all written comments we receive during the comment period, comments from peer reviewers, comments and public testimony received during the public hearings, and any additional information we receive in response to the forthcoming notice of availability of the draft economic analysis. All comments will be included in the public record for this rulemaking. On the basis of peer reviewer and public comments, we may, during the development of our final determination, find that areas within the proposed designation do not meet the definition of critical habitat, that some modifications to the described boundaries are appropriate, or that areas may or may not be appropriate for exclusion under section 4(b)(2) of the Act.

If you previously submitted comments or information on this proposed rule, please do not resubmit them. We will incorporate them into the public record as part of this comment period, and will fully consider them in the preparation of our final determination.

You may submit your comments and materials concerning our proposed rule by one of the methods listed in ADDRESSES.

We will post your entire comment—including any personal identifying information—on http://www.regulations.gov. If you provide personal identifying information, such as your street address, phone number, or email address, you may request at the top of your document that we withhold this personal identifying information from public review. However, we cannot guarantee that we will be able to do so. Please include sufficient information with your comments to allow us to verify any scientific or commercial information you include.

Comments and materials we receive, as well as supporting documentation we used in preparing this proposed rule, will be available for public inspection on http://www.regulations.gov, or by appointment, during normal business hours, at the U.S. Fish and Wildlife Service, Idaho Fish and Wildlife Office (see FOR FURTHER INFORMATION CONTACT). You may obtain copies of the proposed rule on the Internet at http://www.regulations.gov at Docket No. FWS-R1-ES-2011-0096, or by mail from the Idaho Fish and Wildlife Office (see FOR FURTHER INFORMATION CONTACT).

Authors

The primary authors of this notice are the staff of the Idaho Fish and Wildlife Field Office, Region 1, U.S. Fish and Wildlife Service.

Authority

The authority for this action is the Endangered Species Act of 1973, as amended (16 U.S.C. 1531 et seq.).

Dated: March 12, 2012.
Rachel Jacobson,
Acting Assistant Secretary for Fish and Wildlife and Parks.

[FR Doc. 2012-6853 Filed 3-20-12; 8:45 am]

BILLING CODE 4310-55-P